DEPARTMENT OF JUSTICE

National Institute of Corrections

Solicitation for a Cooperative Agreement—Core Competency Model Project

AGENCY: National Institute of Corrections.

ACTION: Solicitation for a Cooperative Agreement.

SUMMARY: The project will identify the competencies needed by correctional leaders and managers at each of four organizational levels. It will define the competency, identify the relevant knowledge needed for its development, describe the behaviors that reflect the competency, identify the skills required to use and develop the competency, and suggest training strategies appropriate to the competency and the management level being addressed.

Project Objectives

Given the premise of the Core Competency Model, the work developed under the cooperative agreement will:

• Identify the competencies needed by correctional leaders and managers.

• Develop a profile of four identified management levels which can be used by correctional trainers in developing and targeting their programs; Supervisors, Managers, Senior Managers and Executives.

• Determine, list, and justify which competencies are most critical to each of the four management levels.

• Identify a knowledge base and/or the relevant theories required by the program participant to use and develop the core competency.

• Identify behaviors that reflect the core competencies at each level.

• Identify the skills required to use and develop the core competencies at each level.

• Provide a tool with which correctional training staff can revise and/or develop programs with the appropriate combination of theoretical and skill-based content.

• Provide a tool to help correctional training staff ensure any content being offered is appropriate to the management level for which it is offered.

• Provide a tool with which correctional training staff can advise practitioners regarding the programs to which they should apply to enhance their leadership and management abilities.

• Provide a tool with which correctional training staff can review the content of leadership and management programs to avoid duplication.

Scope of Work

Introduction

As the correctional field begins its work in the new millennium its leaders will be faced with significant challenges. They must continue to study and apply as appropriate the latest research in offender management and treatment; lead an ever increasingly diverse workforce; design, improve and oversee an efficient operational program; and ensure the incorporation of new technologies in a manner beneficial to their agencies. They must also provide those they lead with guidance and direction for the future. Much of this work will be accomplished through the efforts of those under their supervision. The need for capable leaders is clear.

The Core Competency Model will rest on a basic premise. Leaders and managers need the same or similar core competencies to perform their tasks. However, the actions and behaviors driven by those competencies will vary with the individuals position in the organization and the context of the situations they face. Training content should be grounded in the basic competencies, but vary with the participant's assignments and responsibilities.

Leaders and managers at all levels must have an ability to communicate effectively. But, the skills and behaviors needed will vary depending on who is receiving the communications(s) and the context of the interaction. A first line supervisor counseling a line staff officer on the appropriate use of sick time will employ different methods and behaviors than a Chief Executive Officer (CEO) responding to questions from the media. Likewise, line supervisors may employ problem solving techniques different from the strategic planning approaches employed by the agency's executives.

Background

Correctional leadership programs, including those offered by the Institute, are usually designed for correctional leaders in general, to achieve the broad goal of developing and/or improving correctional leaders. The content is often designed without any systematic consideration given to the specific skills and abilities needed by individuals at various levels of management. This can result in some unanswered questions and issues.

• Are participants applying for and being placed into programs that match their developmental level?

• Does the material challenge the participants?

• Does the content address the needs of the participants at their management level?

• Does the content an appropriate balance of theoretical and skill related material for the target audience?

• Is there duplication between programs?

• Does the content allow for the development of measurable outcomes?

The Goals

The Core Competency Model Project will serve two goals. First, the work will provide a framework with which correctional agencies can assess the efficacy of existing leadership and management programs. Correctional trainers can also apply the Model to the development of new offerings.

Design and Implementation

Ultimately, the Core Competency Model will be designed as a matrix containing definitions and descriptions of the critical core competencies, plus the following elements related to those competencies:

• The relevant knowledge base or theory.

• The behaviors “driven” by the competency for each of the identified management levels,

• The skills necessary to ensure the behaviors, and

• Suggested training or delivery strategies.

These descriptions will be supplemented with an orientation to the Model, plus more detailed narrative explanations and references, as appropriate.

Completion of Phase One

As envisioned, completion of the Core Competency Model will be a comprehensive project and too complex to be accomplished in one year. It is estimated that it will be phased over 18 months. The project will be broken into two phases. During Phase One several key project elements will be developed. The recipient will:

• Develop Managerial Profiles for each of the four identified management levels; Supervisors, Managers, Senior Managers, and Executives.

These profiles will give an overall description of the duties, tasks, responsibilities and authority of correctional practitioners at each of the four levels. Regardless of an individual's title, a correctional trainer should be able to place a practitioner into one of the four levels by requesting information about their general tasks, duties and responsibilities verbally, or by reviewing their written job description and comparing it to the profile.

• Conduct a review of key leadership and management competencies.

The completion of this activity will determine which competencies are critical to each of the four specified levels.

• Develop a format for the Core Competency Model in the form of a matrix containing the name of each competency, plus a definition for each competency.

• Indicate which of the Core Competencies are most critical to each of the four management levels.

To “test” the Model two Core Competencies must be fully developed for the Senior Management level. These two “developed” competencies will include:

The name of the core competency,

• Its definition and description,

• The identified relevant knowledge or theoretical base for the competency at the Senior Management level,

• The behaviors that reflect the competency at the Senior Management level,

• The skills needed to use and develop the competency, and

• Suggested instructional strategies and possible activities that can be used at the Senior Management level to “teach” the competency.

Implementation and Use of Phase One Work

The work that is developed during Phase One will be applied by NIC staff first to the Academy's Correctional Leadership Development (CLD) program. CLD is one of the Academy's longest running training programs and has been at the heart of its offerings. Although it has gone through many stages, it has not been comprehensively reviewed for several years and requires updating. Applying the work completed during Phase One will allow staff to “test” the Model. NIC staff will be able to:

• Determine if the Model can be applied as envisioned.

• Assess the Model's usefulness to correctional trainers as an assessment and development tool for leadership and management training.

• Establish a refined time-table for the balance of the project.

The recipient will conduct a briefing for Institute staff to acquaint them with the concept and intended uses for the Model. During this meeting staff will be able to ask questions and offer ideas and feedback.

Completion of Phase Two

As Phase One progresses the Core Competency Model structure will be monitored. Once tested and revised as necessary the Phase Two work will continue. The Core Competencies for the Senior Manager will be developed, followed by those for the Executive, the Manager, and the Supervisor. When the project is complete the work will contain:

• An introduction to the Core Competency Model, plus an orientation and instructions regarding its application and use.

• A description of each of the four management levels identified by the Institute; Supervisors, Managers, Senior Managers, and Executives. These descriptions will identify the general duties, tasks, responsibilities and authority of correctional managers and leaders in these positions respectively.

• A list of the competencies needed by correctional leaders and managers.

• A general definition and/or description of each competency.

• A list of the competencies most critical to each of the four management levels, including a brief justification for its assignment to that level.

• For each management level a list and/or description of the theoretical framework or knowledge base needed by the participant to develop their ability to integrate and use that level's critical competencies.

• A description of the behaviors that reflect the critical competencies at each management level.

• A list of the skills necessary to apply the critical competencies at each management level.

• A comprehensive list of suggested instructional strategies, training techniques, and activities for each management level.

At the conclusion of the project the recipient will provide an orientation and training in the use of the Model for the NIC staff. This should include suggestions on preparing and transferring the Model to the field.

Products and Deliverables

Upon completion of the cooperative agreement's requirements the recipient will deliver the above described work to the NIC Academy in the form of the following products.

Phase One Products

• A brief narrative review of the project to date.

• Managerial Profiles for Supervisors, Managers, Senior Managers, and Executives.

• A narrative describing the review of the existing core competency work, outlining the suggested changes and the accompanying rationale.

• The Core Competency Model format in the form of a matrix containing; the name of each core competency and a definition and description for each competency.

• A chart indicating the four management levels, their critical Core Competencies, and a brief justification or explanation of their assignment to their particular management level. (This might be done by breaking the Matrix into four separate matrices, one for each level.)

• Two fully developed Core Competencies. These two will be selected in conjunction with the NIC Project Coordinator. These fully developed competencies will include; the general definition and/or description of the competency, a brief justification for its assignment to the Senior management level, a description of the theoretical framework or knowledge base needed by the participant to use and develop the competency, a description of the behaviors that reflect the competency, the sills necessary to use and develop the competency, and suggested training styles, instructional strategies and activities appropriate for “teaching” these competencies at the Senior management level.

Phase Two Products

• A brief narrative review of the project.

• An introduction to the Core Competency Model, plus an orientation and instructions regarding its application and use.

• The fully developed Core Competencies for each of the four management levels in the established matrix format with accompanying detailed narratives and references.

Phase Two products will incorporate any revisions indicated by the review of the Phase One work.

All work will be completed in or converted to Corel WordPerfect 8 or 9. Graphics will be developed in or converted to Corel Presentations. Two camera ready copies of the work will be presented, along with computer files on Compact Disks. Technical terms and acronyms must be fully explained and/or defined. The work must be carefully proof-read and edited to ensure readable text and comprehension.

Authority: Public Law 93-415.

Funds Available: The award will be limited to $105,000 (direct and indirect costs) and project activity must be completed within 18 months of the date of award. Funds may not be used for construction, or to acquire or build real property. This project will be a collaborative venture with the NIC Academy Division.

Deadline for Receipt of Applications: Applications must be received by 4:00 p.m. on 08/23/00. They should be addressed to: Director, National Institute of Corrections, 320 First Street, NW, Room 5007, Washington, DC 20534. Hand delivered applications should be brought to 500 First Street, NW, Washington, DC 20534. The front desk will call Bobbi Tinsley at 202.307.3106, extension 0 for pick-up.

ADDRESSES: Requests for the application kit should be directed to Judy Evens, Cooperative Agreement Control Office, National Institute of Corrections, 320 First Street, N.W., Room 5007, Washington, DC 20534 or by calling 800.995.6423, ext. 159, 202.307.3106, ext. 159, or email: jevens@bop.gov. A copy of this announcement, application forms, and additional information may also be obtained through the NIC web site: http.//www.nicic.org (click on “What's New” and “Cooperative Agreements”). All technical and/or programmatic questions concerning this announcement should be directed to Dee Halley at 1960 Industrial Circle, Longmont, Colorado, or by calling 800.995.6429, ext. 116 or 303.682.0382 or by E-mail via <dhalley@bop.gov>.

Eligible Applicants: An eligible applicant is any public or private agency, educational institution, organization, team, or individual with the requisite skills to successfully meet the outcome objective of the project. Applicants must have a background in corrections, adult training and/or education and competency based training.

Review Considerations: Applicants received under this announcement will be subjected to an NIC 3 to 5 member Peer Review Process.

Number of Awards: One (1).

NIC Application Number: 00P14. This number should appear as a reference line in your cover letter and also in box 11 of Standard Form 424.

(Catalog of Federal Domestic Assistance Number: 16.601)

Dated: July 25, 2000.
Morris L. Thigpen,
Director, National Institute of Corrections.

[FR Doc. 00-19177 Filed 7-28-00; 8:45 am]

BILLING CODE 4410-36-M